DEPARTMENT OF ENERGY

10 CFR Parts 430 and 431

[EERE-2017-BT-STD-0062]

RIN 1904-AD38

Energy Conservation Program: Procedures, Interpretations, and Policies for Consideration of New or Revised Energy Conservation Standards for Consumer Products

AGENCY: Office of Energy Efficiency and Renewable Energy, Department of Energy.

ACTION: Notice of re-opening of the public comment period.

SUMMARY: On February 13, 2019, the U.S. Department of Energy (“DOE”) published a notice of proposed rulemaking (“NOPR”) to update and modernize the Process Rule (“Process Rule NOPR”). On July 26, 2019, DOE published a notice of data availability (“NODA”) regarding national energy savings estimates from past DOE energy conservation standards rulemakings that were used in support of the NOPR and requested comments on these data. Prior to the end of the comment period for the NODA, DOE received a request from stakeholders on August 6, 2019, seeking additional time to analyze the NODA's data and to supplement their comments accordingly. In light of this request, DOE is re-opening the comment period for an additional 21 days and announcing that decision in this document.

DATES: The comment period for the NODA published on July 26, 2019 (84 FR 36037), which closed on August 9, 2019, is hereby reopened and extended. Written comments and information will be accepted on or before August 30, 2019.

ADDRESSES: Interested persons are encouraged to submit comments using the Federal eRulemaking Portal at http://www.regulations.gov. Follow the instructions for submitting comments. Alternatively, interested persons may submit comments, identified by docket number EERE-2017-BT-STD-0062, by any of the following methods:

1. Federal eRulemaking Portal: http://www.regulations.gov. Follow the instructions for submitting comments.

2. Email: Process.Rule@ee.doe.gov. Include EERE-2017-BT-STD-0062 in the subject line of the message.

3. Postal Mail: Ms. Sofie Miller, U.S. Department of Energy, Office of Energy Efficiency and Renewable Energy, 1000 Independence Avenue SW, Room 6A-013, Washington, DC 20585. If possible, please submit all items on a compact disc (“CD”), in which case it is not necessary to include printed copies.

4. Hand Delivery/Courier: Ms. Sofie Miller, U.S. Department of Energy, Office of Energy Efficiency and Renewable Energy, 1000 Independence Avenue SW, Washington, DC 20585. Telephone: (202) 586-5000. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-STD-0062. The docket web page contains instructions on how to access all documents, including public comments, in the docket.

FOR FURTHER INFORMATION CONTACT: Ms. Sofie Miller, Senior Advisor, U.S. Department of Energy, Office of Energy Efficiency and Renewable Energy, 1000 Independence Avenue SW, Washington, DC 20585. Telephone: (202) 586-5000. Email: Process.Rule@ee.doe.gov.

Ms. Francine Pinto, U.S. Department of Energy, Office of the General Counsel, GC-33, 1000 Independence Avenue SW, Washington, DC 20585-0121. Telephone: (202) 586-7432. Email: Francine.Pinto@hq.doe.gov.

SUPPLEMENTARY INFORMATION: On February 13, 2019, DOE published a NOPR in the Federal Register that proposed to update and modernize the Process Rule (“Process Rule NOPR”). 84 FR 3910. On July 26, 2019, DOE published a notice of data availability (“NODA”) regarding national energy savings estimates from past DOE energy conservation standards rulemakings that were used in support of the NOPR and requested comments on these data. 84 FR 36037. The NODA, which presented these data uniformly in terms of site energy, sought public input regarding these data. DOE developed these data after re-examining its use of source and full-fuel-cycle energy savings data in consideration of a threshold for significant conservation of energy in order to provide a consistent accounting across rulemakings. Because EPCA uses a household energy consumption metric as a threshold for setting standards for new covered products (42 U.S.C. 6295(l)(1)), DOE believes that site energy would be the most appropriate metric for evaluating energy savings across rulemakings. As a result, DOE provided national site energy savings data from its past rulemakings for public comment to help inform DOE's decision regarding whether (and how) to define a threshold for significant energy savings. DOE previously noted, and stresses again, that the rules reported and the data analyzed in the information provided with the NODA are identical to those provided with DOE's original proposal and discussed at the public meeting. DOE's restating of the results from each examined rulemaking on a site energy basis is solely for the purpose of making an “apples-to-apples” comparison of the results of each rulemaking using the statutorily-required measure for setting energy conservation standards. The NODA provided for the submission of comments by August 9, 2019.

On August 6, 2019, DOE received requests from several parties to extend the comment period on the proposal. More specifically, stakeholders requested additional time to analyze the data and to prepare comments.

Given the importance to DOE of receiving public input on this matter, DOE is re-opening the comment period and will consider all comments received on or before August 30, 2019.

Signed in Washington, DC, on August 12, 2019.
Alexander N. Fitzsimmons,
Acting Deputy Assistant Secretary for Energy Efficiency, Energy Efficiency and Renewable Energy.

[FR Doc. 2019-17760 Filed 8-16-19; 8:45 am]

BILLING CODE 6450-01-P